DEPARTMENT OF HOMELAND SECURITY

Coast Guard

33 CFR Part 165

[Docket No. USCG-2025-1040]

Safety Zones; Annual Events in the Captain of the Port Detroit Zone—Sandusky New Years Eve Fireworks

AGENCY: Coast Guard, DHS.

ACTION: Notification of enforcement of regulation.

SUMMARY: The Coast Guard will enforce a safety zone for the Sandusky New Years Eve Celebration Fireworks. The safety zone is necessary to protect the safety of life and property on Sandusky Bay immediately prior to, during, and immediately after the event. During the enforcement period, no person or vessel may enter the safety zone without permission of the Captain of the Port Detroit or a designated representative.

DATES: The regulations in 33 CFR 165.941 will be enforced for the Sandusky New Years Eve Celebration Fireworks listed in item 51 in Table 1 to § 165.941, from 6 p.m. to 7 p.m. on December 31, 2025, and from 12 p.m. to 1 a.m. on January 1, 2026.

FOR FURTHER INFORMATION CONTACT: If you have questions about this notification of enforcement, call or email MST1 Cera Turner, MSU Toledo, Waterways Management Division, U.S. Coast Guard; telephone 419-418-6050, email d09-smb-msutoledo-wwm@uscg.mil.

SUPPLEMENTARY INFORMATION: The Coast Guard will enforce a safety zone regulation in 33 CFR 165.941 for the Sandusky New Years Eve Celebration Fireworks listed in item 51 in Table 1 to § 165.941, from 6 p.m. to 7 p.m. on December 31, 2025, and from 12 p.m. to 1 a.m. on January 1, 2026. This action is being taken to provide for the safety of life and property on the Maumee River during the event. The regulation for reoccurring marine events within Sector Detroit Marine Safety Unit Toledo, Table 1 to § 165.941, item 51, specifies the location of the regulated area for the event. During the enforcement period, no person or vessel may enter the safety zone without permission of the Captain of the Port Detroit or an on-scene representative.

In addition to this notification or enforcement in the Federal Register, the Coast Guard will provide notification of this enforcement period via Broadcast Notice to Mariners.

Dated: December 5, 2025.
Richard P. Armstrong,
Captain, U.S. Coast Guard, Captain of the Port Detroit.

[FR Doc. 2025-22516 Filed 12-10-25; 8:45 am]

BILLING CODE 9110-04-P